DEPARTMENT OF DEFENSE

Department of the Army

Availability of U.S. Patent and U.S. Patent Applications for Non-Exclusive, Exclusive, or Partially Exclusive Licensing

AGENCY: Department of the Army, DoD.

ACTION: Notice of availability.

SUMMARY: In accordance with 35 U.S.C. 209 and 37 CFR part 404 announcement is made of the availability for licensing of the U.S. Patents for non-exclusive, exclusive, or partially exclusive licensing listed under SUPPLEMENTARY INFORMATION. The inventions listed have been assigned to the United States Government as represented by the Secretary of the Army, Washington, DC.

FOR FURTHER INFORMATION CONTACT: Ms. Laura Rothenberg Haug, Chief Counsel, U.S. Army Developmental Test Command, 314 Longs Corner Road, ATTN: CSTE-DTC-CC, Aberdeen Proving Ground, MD 21005-5055, phone: (410) 278-1059; fax: (410) 278-3733 or e-mail: cc@dtc.army.mil.

SUPPLEMENTARY INFORMATION: 1. Title: “Apparatus for Providing GPS Positioning Information to a Plurality of Computers from only one GPS Receiver.”

Description: The present invention comprises an apparatus for providing GPS positioning information to a master computer and a plurality of slave computers from only one GPS receiver. The apparatus includes a circuit adapted to be coupled between the GPS receiver and the computers for providing each computer with a replica of a positioning information signal from the GPS receiver so that each computer receives all of the positioning information it would have received if it had been connected to its own GPS receiver. In addition, the apparatus includes a circuit adapted to be coupled between the GPS receiver and the computers for providing each computer with a replica of a synchronizing signal from the GPS receiver so that each computer receives the synchronizing signal it would have received if it had been connected to its own GPS receiver. Further, the apparatus includes a circuit adapted to be coupled between the GPS receiver and the master computer for passing a control signal from the master computer to the GPS receiver to set up and control the state of the GPS receiver.

Patent Number: 6,674,400.

Issue Date: January 6, 2004.

2. Title: “GPS Tracker.”

Description: The present invention comprises a vehicle tracking system that includes a plurality of trackers, each adapted to be attached to a respective movable vehicle, and a remotely located controller for individually polling by radio each of the trackers to determine the position of the polled tracker. Each tracker includes a positioning receiver which receives satellite signals from a Global Positioning System and transmits a first positioning signal containing the position of the tracker to a micro controller unit. The micro controller unit receives the signal and transmits a second positioning signal containing the position of the tracker to a communicator. The communicator radios the second positioning signal to the remotely located controller to communicate the position of the tracker in response to a radioed polling signal from the remotely located controller.

Patent Number: 6,628,232.

Issue Date: September 30, 2003.

3. Title: “Large Dynamic Range Digitizing Apparatus and Method.”

Description: The present invention comprises an apparatus and method for digitizing an analog signal and optimizing the dynamic range of the digitized signal. Dual analog-to-digital converters are preceded by respective amplifiers with different gains for receiving an analog input signal. The digital output signal from the analog-to-digital converter preceded by the amplifier of higher gain is selected and stored when it is not clipped. Otherwise, the analog-to-digital converter preceded by the amplifier of lower gain is selected and its digital output signal is stored. Once digital memory is filled, an adaptive formatting program selects the most appropriate parts of the memory words to achieve maximum resolution and dynamic range in an output word size.

Patent Number: 6,445,328.

Issue Date: September 3, 2002.

4. Title: “Equipment Roller/Slide Support.”

Description: The present invention comprises a roller slide apparatus for mounting heavy equipment on support structures and which allows safe repositioning of the equipment for servicing and repair includes a lower plate assembly connected to a support structure, an upper mounting plate connected to the equipment, and a bearing assembly connected to both the lower mounting plate assembly and the upper mounting plate for facilitating movement of the upper mounting plate from a first operative position where the upper mounting plate is substantially superimposed over the lower mounting plate assembly to a second operative position where the upper mounting plate is moved away from the lower mounting plate assembly. Locking devices for maintaining the upper mounting plate in either the first or second operative positions, includes flanges formed on the mounting plates and extensions that slide into holes formed in flange or plate elements.

Patent Number: 6,254,047.

Issue Date: July 3, 2001.

5. Title: “System for Detecting Gunshots.”

Description: The present invention provides a system for detecting gunshots includes an input device including a microphone for converting acoustic noises into signals and amplifiers for amplifying the input signals, a threshold detector for receiving the amplified signals and comparing the signals with a predetermined threshold value and for producing an output signal when the threshold value is exceeded. A pulse width detector is connected to the threshold detector for producing an output signal only if the width of the threshold detector output signal is within a predetermined range of values. A pulse count detector is also connected to the threshold detector for producing an output signal when the level of the threshold output signal is above a peak threshold level or the number of threshold level output signals that exceed a threshold level are less than a preset limit. An output device indicates that a gunshot has occurred only when signals are received from the pulse width detector and the pulse count detector during a sampling period.

Patent Number: 6,185,153.

Issue Date: February 6, 2001.

6. Title: “System and Method for Performing Jamming Testing on Communication Networks.”

Description: The present invention comprises a system is tested for jamming resistance by supplying a simulated jamming signal. The simulated jamming signal is produced by calculating a propagation path loss in the terrain between the system under test and a location where the jammer would be, predicting a jamming level in accordance with the propagation path loss, and generating a simulated jamming signal. The simulated jamming signal is supplied to the antenna port of the system under test. The testing does not require the use of either a real jammer or a pilot signal generator at the location where the jammer would be.

Patent Number: 5,886,626.

Issue Date: March 23, 1999.

7. Title: “Ballistic Optical Camera Trigger.”

Description: The present invention comprises a ballistic optical camera trigger having an integrated circuit capable of converting light to a proportional frequency, wherein the integrated circuit has a fast response time and a wide dynamic range which allows it to sense positive or negative changes in light fast enough to trigger without delay for high speed imaging without computational delays or jitter causing interference. The frequency output of the integrated circuit is tracked by a phase lock loop/voltage controlled oscillator to allow it to follow slow changes in light, but not fast changes in light caused by, for example, a projectile such as a bullet. The frequency output from the integrated circuit is provided to one input of a logic gate which receives at another input thereof, a shaped pulse from the phase lock loop/voltage controlled oscillator circuit, wherein the output of the logic gate is applied to a one-shot for outputting a trigger signal.

Patent Number: 5,581,078.

Issue Date: December 3, 1996.

Brenda S. Bowen,
Alternate Army Federal Register Liaison Officer.

[FR Doc. 04-9599 Filed 4-27-04; 8:45 am]

BILLING CODE 3710-08-M